FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 6, 2011.

A. Federal Reserve Bank of San Francisco (Kenneth Binning, Vice President, Applications and Enforcement) 101 Market Street, San Francisco, California 94105-1579:

1. Bank of Idaho Holding Company Employee Stock Ownership Plan, Idaho Falls, Idaho; to retain control of Bank of Idaho Holding Company, and thereby indirectly retain control of The Bank of Idaho, both of Idaho Falls, Idaho.

Board of Governors of the Federal Reserve System, March 17, 2011.
Robert deV. Frierson,
Deputy Secretary of the Board.

[FR Doc. 2011-6650 Filed 3-21-11; 8:45 am]

BILLING CODE 6210-01-P